OFFICE OF THE UNITED STATES TRADE REPRESENTATIVE

Trade Policy Staff Committee; Request for Supplemental Public Comment on Scope of Environmental Review of United States-Singapore Free Trade Agreement

AGENCY: Office of the United States Trade Representative.

ACTION: Request for supplemental comments.

SUMMARY: Pursuant to Executive Order 13141, 64 FR 63,169 (Nov. 18, 1999), and implementing guidelines, 65 FR 79442 (Dec. 19, 2000), this notice requests supplemental comments on the scope of the environmental review of the proposed United States-Singapore Free Trade Agreement (FTA) currently under negotiation. In November 2000, the Office of the United States Trade Representative (USTR), through the Trade Policy Staff Committee (TPSC), previously initiated an environmental review of the proposed U.S.-Singapore FTA and requested public comments on the environmental implications of the negotiations and the scope of the review. 65 FR 71197 (Nov. 29, 2000). At that time, the parties anticipated that the negotiating schedule would be very compressed. Because the schedule has since been extended, the TPSC wishes to provide the public with an opportunity to provide any additional information or analysis concerning relevant environmental issues that should be addressed in the review. It is not necessary to repeat comments submitted in response to the November 29 notice; those comments are being considered and are available for public inspection in USTR's reading room (see below).

DATES: Public comments should be received no later than March 29, 2002.

FOR FURTHER INFORMATION CONTACT: For procedural questions concerning public comments, contact Gloria Blue, Executive Secretary, TPSC, Office of the USTR, 600 1724 F Street, NW., Washington, DC 20508, telephone (202) 395-3475. Questions concerning the environmental review should be addressed to Alice Mattice or Darci Vetter, Environment and Natural Resources Section, telephone 202-395-7320.

SUPPLEMENTARY INFORMATION: In November 2000, Singapore's Prime Minister Goh and President Clinton announced that the governments of the United States and Singapore would enter into negotiations on a bilateral free trade agreement (FTA). Negotiations were launched in December 2000. In early 2001, the Bush Administration reaffirmed the United States' commitment to the negotiations. The parties have made good progress, and expect that negotiations will intensify in the coming months.

As described in the previous notice, see 65 FR 71197, the United States and Singapore are seeking to eliminate duties and commercial barriers to bilateral trade in U.S. and Singaporean-origin goods. The agreement is also expected to include provisions on trade in services, investment, trade-related aspects of intellectual property rights, competition, government procurement, electronic commerce, trade-related environmental and labor matters, and other issues.

The TPSC has taken comments received in response to the previous notice into account in developing U.S. negotiating positions and in determining the scope of the environmental review. However, in light of the revised negotiating schedule, the TPSC believes that provision of an opportunity for the public to provide supplemental comments would be useful in the review process. The TPSC anticipates that a draft review should be available for public comment in the spring of 2002.

Executive Order 13141 and implementing guidelines formalize the U.S. policy of conducting environmental reviews for certain major trade agreements. Reviews are used to identify potentially significant, reasonably foreseeable environmental impacts (both positive and negative), and information from the review can help facilitate consideration of appropriate responses where impacts are identified. The Order requires environmental reviews of certain types of agreements, including bilateral free trade agreements such as the Singapore FTA. See 64 FR 63169. Reviews address potential environmental impacts that may be associated with projected economic changes associated with the proposed agreement, and potential implications for U.S. environmental laws and regulations. The focus of the reviews is on impacts on the United States, although global and transboundary impacts will be considered, where appropriate and prudent.

Written Comments

To ensure prompt consideration of responses, the TPSC strongly encourages interested persons to submit comments by electronic mail to the following e-mail address: FR0014@ustr.gov. Documents may also be submitted by fax to (202) 395-5141, attention: Gloria Blue.

Comments submitted by electronic mail and comments submitted by fax will be available for public inspection in the USTR Reading Room, in Room 3 of the annex of the Office of the United States Trade Representative, 1724 F Street, NW., Washington, DC. An appointment to review the file may be made by calling (202) 395-6186. The Reading Room is open to the public from 10-12 a.m. and from 1-4 p.m., Monday through Friday.

Carmen Suro-Bredie,
Chair, Trade Policy Staff Committee.

[FR Doc. 02-4522 Filed 2-25-02; 8:45 am]

BILLING CODE 3190-01-P